DEPARTMENT OF COMMERCE

National Institute of Standards and Technology

Open Meeting of the Information Security and Privacy Advisory Board

AGENCY: National Institute of Standards and Technology, Department of Commerce.

ACTION: Notice.

SUMMARY: The Information Security and Privacy Advisory Board (ISPAB) will meet Wednesday, June 28, 2017 from 9:00 a.m. until 4:30 p.m., Eastern Time, Thursday, June, 29, 2017, from 9:00 a.m. until 3:00 p.m., Eastern Time, and Friday, June 30, 2017 from 9:00 a.m. until 12:00 p.m. Eastern Time. All sessions will be open to the public.

DATES: The meeting will be held on Wednesday, June 28, 2017, from 9:00 a.m. until 4:30 p.m., Eastern Time, Thursday, June 29, 2017, from 9:00 a.m. until 3:00 p.m., Eastern Time, and Friday, June 30, 2017 from 9:00 a.m. until 12:00 p.m. Eastern Time.

ADDRESSES: The meeting will be held at the Constitution Hall, American University, 4400 Massachusetts Ave. NW., Washington, DC 20016.

FOR FURTHER INFORMATION CONTACT: Matthew Scholl, Information Technology Laboratory, NIST, 100 Bureau Drive, Stop 8930, Gaithersburg, MD 20899-8930, telephone: (301) 975-2941, Email address: mscholl@nist.gov.

SUPPLEMENTARY INFORMATION: Pursuant to the Federal Advisory Committee Act, as amended, 5 U.S.C. App., notice is hereby given that the Information Security and Privacy Advisory Board (ISPAB) will meet Wednesday, June 28, 2017, from 9:00 a.m. until 4:30 p.m., Eastern Time, Thursday, June 29, 2017, from 9:00 a.m. until 3:00 p.m., Eastern Time, and Friday, June 30, 2017 from 9:00 a.m. until 12:00 p.m. Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including thorough review of proposed standards and guidelines developed by NIST. Details regarding the ISPAB's activities are available at http://csrc.nist.gov/groups/SMA/ispab/index.html.

The agenda is expected to include the following items:

—Deliberations and recommendations by the board,

—Presentation and discussion on next generation identity management technologies,

—Discussion on capabilities of virtualization to enhance cybersecurity,

—Threat brief presentation on activities of advanced persistent threats,

—Presentation by National Security Staff on administration cybersecurity priorities,

—OMB presentation on current and planned policy for cybersecurity and discussion,

—Presentation on how to prevent Distributed Denial of Service Attacks and discussion,

—Discussion of the NIST national vulnerability database reference materials,

—Panel discussion/presentation on National Institute of Standards and Technology Internet of Things Cybersecurity Program,

—Discussion on Ransomware Threat Activity, and

—Updates on NIST Information Technology Laboratory.

Note that agenda items may change without notice. The final agenda will be posted on the Web site indicated above. Seating will be available for the public and media. Pre-registration is not required to attend this meeting.

Public Participation: The ISPAB agenda will include a period of time, not to exceed thirty minutes, for oral comments from the public (Wednesday, June 29, 2017, between 4:00 p.m. and 4:30 p.m.). Speakers will be selected on a first-come, first served basis. Each speaker will be limited to five minutes. Questions from the public will not be considered during this period. Members of the public who are interested in speaking are requested to contact Matthew Scholl at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin Kimball,
Chief of Staff.

[FR Doc. 2017-11511 Filed 6-2-17; 8:45 am]

BILLING CODE 3510-13-P